NUCLEAR REGULATORY COMMISSION

[Docket No. 070-03071]

Notice of Availability of Environmental Assessment and Finding of No Significant Impact for License Amendment to Special Nuclear Materials License No. SNM-1990, for Unrestricted Release of the West Virginia University Institute of Technology's Engineering Classroom Building in Montgomery, WV

AGENCY: Nuclear Regulatory Commission.

ACTION: Issuance of Environmental Assessment and Finding of No Significant Impact for License Amendment.

FOR FURTHER INFORMATION CONTACT: Betsy Ullrich, Senior Health Physicist, Commercial and R&D Branch, Division of Nuclear Materials Safety, Region I, 475 Allendale Road, King of Prussia, Pennsylvania; telephone (610) 337-5040; fax number (610) 337-5269; or by e-mail: exu@nrc.gov.

SUPPLEMENTARY INFORMATION:

I. Introduction

The U.S. Nuclear Regulatory Commission (NRC) is considering the issuance of a license amendment to Special Nuclear Materials License No. SNM-1990. This license is held by the West Virginia University Institute of Technology (the Licensee) for its Department of Physics, located at 405 Fayette Place in Montgomery, West Virginia. Issuance of the amendment would authorize Room 105 of the Department of Physics' Engineering Classroom Building (the Facility) to be released for unrestricted use. The Licensee requested this action in a letter dated August 9, 2005. The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the Licensee's August 9, 2005, license amendment request, resulting in Room 105 (where licensed materials were used or stored) being released for unrestricted use. License No. SNM-1990 was issued on April 30, 1991, pursuant to 10 CFR parts 40 and 70, and has been amended periodically since that time. This license authorized the Licensee to use plutonium-239 and uranium for purposes of storage only until transferred to an authorized recipient. This license superceded License No. SNM-608 (issued June 14, 1965 to authorize the use of plutonium-239 sealed neutron sources for educational and research activities) and License No. SUD-869 (issued April 22, 1966 for use of natural uranium in sub-critical assemblies for educational and research purposes).

The Facility is situated on the Licensee's 110-acre campus, which is located in a rural area. Within the Facility, use of licensed materials was confined to Room 105, which has approximately 47 square meters of floor area.

On June 7, 2005, the Licensee ceased licensed activities and initiated a survey and decontamination of Room 105. Based on the Licensee's historical knowledge of the site and the conditions of the Facility, the Licensee determined that only routine decontamination activities, in accordance with its NRC-approved, operating radiation safety procedures, were required. Therefore, the Licensee was not required to submit a decommissioning plan to the NRC. The Licensee conducted surveys of Room 105 and provided information to the NRC to demonstrate that it meets the criteria in Subpart E of 10 CFR part 20 for unrestricted release.

Need for the Proposed Action

The Licensee has ceased conducting licensed activities in Room 105, and seeks its unrestricted use.

Environmental Impacts of the Proposed Action

The historical review of licensed activities conducted in Room 105 shows that such activities involved use of the following radionuclide with half-life greater than 120 days: Natural uranium. Prior to performing the final status survey, the Licensee conducted decontamination activities, as necessary, in the Room 105 areas affected by the use of natural uranium.

The Licensee conducted surveys in Room 105 on June 7, 2005, and January 12, 2006, as reflected in the Licensee's amendment request dated August 9, 2005, and subsequent submittals. The Licensee elected to demonstrate compliance with the radiological criteria for unrestricted release as specified in 10 CFR 20.1402 by using the screening approach described in NUREG-1757, “Consolidated NMSS Decommissioning Guidance,” Volume 2. The Licensee used the radionuclide-specific derived concentration guideline levels (DCGLs), developed there by the NRC, which comply with the dose criterion in 10 CFR 20.1402. These DCGLs define the maximum amount of residual radioactivity on building surfaces, equipment, and materials, and in soils, that will satisfy the NRC requirements in Subpart E of 10 CFR part 20 for unrestricted release. The NRC considers these DCGLs to be in compliance with the As Low As Reasonably Achievable (ALARA) requirement of 10 CFR 20.1402. The Licensee's final status survey results were below these DCGLs, and are thus acceptable. Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). Further, no incidents were recorded involving spills or releases of radioactive material at the Facility. Accordingly, there were no significant environmental impacts from the use of radioactive material at the Facility. The NRC staff reviewed the docket file records and the final status survey report to identify any non-radiological hazards that may have impacted the environment surrounding the Facility. No such hazards or impacts to the environment were identified. The NRC has found no other radiological or non-radiological activities in the area that could result in cumulative environmental impacts.

The NRC staff finds that the proposed release of the Facility described above for unrestricted use is in compliance with 10 CFR 20.1402. Based on its review, the staff considered the impact of the residual radioactivity in Room 105 and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 40.42(d) and 70.38(d), requiring that decommissioning of source and special nuclear material facilities be completed and approved by the NRC after licensed activities cease. The NRC's analysis of the Licensee's final status survey data confirmed that Room 105 meets the requirements of 10 CFR 20.1402 for unrestricted release. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the State of West Virginia for review on May 17, 2006. On June 20, 2006, the State of West Virginia responded by electronic mail. The State agreed with the conclusions of the EA, and otherwise had no comments.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

(1) Letter dated August 9, 2005, transmitting the “Final Status Survey for Decommissioning for West Virginia University Institute of Technology Engineering Classroom Building Room 105” [ML052280399];

(2) Additional information in letters dated November 7, 2005 [ML053200348] and January 19, 2006 [ML060240555], and by facsimile February 10, 2006 [ML060470436];

(3) Federal Register Notice, Volume 65, No. 114, page 37186, dated Tuesday, June 13, 2000, “Use of Screening Values to Demonstrate Compliance With The Federal Rule on Radiological Criteria for License Termination”;

(4) Title 10, Code of Federal Regulations, Part 20, Subpart E, “Radiological Criteria for License Termination”;

(5) Title 10, Code of Federal Regulations, Part 51, “Environmental Protection Regulations for Domestic Licensing and Related Regulatory Functions”;

(6) NUREG-1496, “Generic Environmental Impact Statement in Support of Rulemaking on Radiological Criteria for License Termination of NRC-Licensed Nuclear Facilities.”

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1 F21, One White Flint North, 11555 Rockville Pike, Rockville, MD 20852. The PDR reproduction contractor will copy documents for a fee.

Dated at King of Prussia, Pennsylvania, this 20th day of July 2006.
For the Nuclear Regulatory Commission.
James P. Dwyer,
Chief, Commercial and R&D Branch, Division of Nuclear Materials Safety, Region I.

[FR Doc. E6-12514 Filed 8-2-06; 8:45 am]

BILLING CODE 7590-01-P